DEPARTMENT OF TRANSPORTATION

Federal Transit Administration

Environmental Impact Statement on the Mid-City/Westside Transit Corridor in Los Angeles, CA

AGENCY: Federal Transit Administration, DOT.

ACTION: Notice of intent to prepare an Environmental Impact Statement.

SUMMARY: The Federal Transit Administration (FTA), as the Federal lead agency, and the Los Angeles County Metropolitan Transportation Authority (MTA), as the local lead agency, are issuing this notice to advise interested agencies and the public that a joint Environmental Impact Statement (EIS)/Environmental Impact Report (EIR), referred to as an EIS/EIR, is being prepared for transit improvements in the Mid-City/Westside Transit Corridor in Los Angeles, California in accordance with the National Environmental Policy Act (NEPA) of 1969 and the California Environmental Quality Act (CEQA). The EIS/EIR replaces the previous NEPA reviews by FTA and MTA of transit improvements in the Mid-City corridor, the most recent being “Los Angeles Rail Rapid Transit Project—Metro Rail Final Supplemental EIS/EIR for the Mid-City Segment from Wilshire/Western to Pico/San Vicente,” August, 1992. The Mid-City extension of Metro Rail was suspended by the MTA Board of Directors in January 1998. The present EIS/EIR will study alternatives and extensions to the suspended subway in the Mid-City corridor and beyond to Santa Monica. In the course of this study, FTA expects the MTA and the Southern California Association of Governments, which is responsible for transportation planning in metropolitan Los Angeles, to establish priorities for the proposed transit improvements in the Mid-City corridor and the myriad of other competing projects and transit needs in the region. This prioritization of proposed projects and other transit needs will involve, among other considerations, the development of a financial plan that identifies for each capital need the non-Federal funds to be used along with the proposed Federal funding.

FTA and MTA seek comments by interested parties and agencies on the scope of the Mid-City/Westside EIS/EIR. The date and location of public scoping meetings are provided below. The closing date for receiving comments on the scope of the EIS/EIR, and the address to which written comments should be sent, are also provided herein.

DATES: Comment Due Date: Written comments on the scope of the study should be sent, by June 23, 2000, to Mr. David Mieger of the Los Angeles County Metropolitan Transportation Authority at the address given below in ADDRESSES.

Scoping Meeting Dates: Please refer to ADDRESSES below for the dates, times, and locations of the public scoping meetings.

ADDRESSES: For Written Comments: Written comments on the scope of the EIS/EIR should be sent by June 23, 2000, to Mr. David Mieger, Los Angeles County Metropolitan Transportation Authority, One Gateway Plaza, Mail Stop 99-22-5, Los Angeles, California 90012. Written comments may also be turned in at the scoping meetings.

For Scoping Meetings: Public scoping meetings for the EIS/EIR will be held at the following locations at the dates and times indicated:

• Tuesday, May 23, 2000, Peterson Automotive Museum, 6060 Wilshire Boulevard, Los Angeles, CA 90036 (5 p.m.-8 p.m.)

• Wednesday, May 31, 2000, Veteran's Administration Hospital of West Los Angeles, 11301 Wilshire Boulevard, Los Angeles, CA 90038 (5 p.m.-8 p.m.)

• Tuesday, June 6, 2000, Ken Edwards Center, 1527 4th Street, Santa Monica, CA (5 p.m.-8 p.m.)

• Wednesday, June 7, 2000, California African-American Museum, 600 State Drive, Exposition Park, Los Angeles, CA 90037 (5 p.m.-8 p.m.)

• Thursday, June 8, 2000, Veteran's Memorial Complex, 4117 Overland Avenue, Culver City, CA 90232 (5 p.m.-8 p.m.)

The scoping meetings will be held in an “open house” format with MTA representatives available to discuss the project alternatives throughout the time periods given. Informational displays and written material will also be available. Comments may be submitted in writing at the public scoping meetings. All locations are accessible to persons with disabilities. Spanish-speaking MTA staff will be present. If hearing-impaired services will be needed, please notify Mr. David Mieger at the MTA address above, or call TTY (800) 252-9040. Other questions about the scoping workshops may be directed by voice telephone to Mr. Mieger at (213) 922-3040 or e-mail at miegerd@mta.net.

For MIS Review: A Major Investment Study (MIS) of the transportation needs in the Mid-City/Westside Corridor, dated February, 2000, and related environmental studies are available for review at the MTA Library at One Gateway Plaza, 15th Floor; Los Angeles, CA 90012 during normal business hours.

FOR FURTHER INFORMATION CONTACT: Ervin Poka or Ray Tellis, Federal Transit Administration/Federal Highway Administration Los Angeles Metropolitan Office. Phone: (213) 202-3950.

SUPPLEMENTARY INFORMATION: The EIS/EIR will present a comparative analysis of the environmental impacts, transportation benefits, and costs of reasonable transit alternatives in the Mid-City/Westside Corridor and will determine the appropriate mitigation measures for adverse impacts.

Scoping: The initial set of alternatives for the Mid-City/Westside Corridor were defined through a Major Investment Study (MIS) completed in February 2000 by the MTA, in accordance with USDOT regulations. Additional alternatives that may emerge from the scoping process will be considered.

FTA and MTA invite interested individuals, organizations, and public agencies to attend the scoping meetings and participate in identifying the scope and content of the EIS/EIR, including any significant environmental, social, or economic issues associated with the alternatives. The public is invited to comment specifically on the alternatives to be addressed, the transit modes and technologies to be evaluated, the alignments and termination points to be considered, the environmental, social, and economic impacts to be analyzed, and the evaluation approach to be used to select a preferred alternative. During scoping, comments should focus on identifying specific social, economic, or environmental impacts to be evaluated and suggesting alternatives that are less costly or less environmentally damaging, while meeting the identified transportation and other needs in the Mid-City/Westside Corridor. Scoping is not the appropriate time to indicate a preference for a particular alternative. Comments on preferences should be communicated after the Draft EIS/EIR has been issued for public review.

An information packet describing the purpose of the project, the location, the proposed alternatives, and the impact areas to be evaluated is being mailed to affected Federal, State, and local agencies. Others may request these scoping materials by contacting Mr. David Mieger at (213) 922-3040 or by writing to him at his address above. If you wish to be placed on the project mailing list, please call the Project Hotline at 310-366-6443.

Description of Study Area and Project Need: The Mid-City/Westside Corridor is approximately bounded on the north by Sunset Boulevard, on the east by Hill Street, on the south by Manchester Boulevard, and on the west by the Pacific Ocean. The projected trip-making increase and resulting congestion would occur because of expected population growth, from 1.5 million persons in 1994 to 1.9 million in 2020, and of expected employment growth, from one million jobs in 1994 to 1.2 million jobs in 2020. The purposes of the project are to improve east-west travel options in the Mid-City/Westside areas of Los Angeles and to provide a connection to the previously completed Metro Rail Red Line and other portions of the regional rail and bus network.

Alternatives: In order to address current and long-range traffic congestion in the Mid-City and Westside areas of the Los Angeles Basin, the MTA has examined a wide range of east-west transit alternatives, including Bus Rapid Transit, Light Rail Transit such as the Blue Line to Long Beach, and Heavy Rail Transit such as the Red Line to Hollywood. In accordance with the intent of the MIS process, the MIS, in conjunction with the guidance provided by the MTA Board of Directors, resulted in a set of refined alternatives to be evaluated in detail in the EIS/EIR. These alternatives are: (1) No Build; (2) Transportation System Management; (3) Wilshire Bus Rapid Transit (BRT); (4) Exposition BRT; (5) Exposition Light Rail Transit (LRT); (6) Phased length combinations of Wilshire BRT and Exposition BRT or LRT; (7) Any additional alternatives that may result from the scoping process. Alignments for BRT extend from the Metro Red Line in downtown Los Angeles to downtown Santa Monica and include Wilshire Boulevard and the former Exposition railroad right-of-way. An alignment for LRT extends from downtown Los Angeles to downtown Santa Monica along the Exposition railroad right-of-way. The TSM Alternative is not specific to an alignment but would rather improve service levels of existing bus service in the general Westside Corridor. Additionally, a No Build Alternative will evaluate the impacts of doing nothing to improve transit service during the twenty year planning timeframe of the project, beyond those improvements already scheduled and funded.

Probable Effects: The FTA and MTA will evaluate all significant environmental, social and economic impacts of the alternatives in the Draft EIS/EIR. Potential impact categories which will be evaluated include: Land Use and Development; Economic Impacts; Displacement and Relocation; Traffic Circulation and Parking; Community and Neighborhood Impacts; Environmental Justice; Visual and Aesthetic Impacts; Air Quality; Noise and Vibration; Geotechnical Considerations; Water Resources; Natural Resources; Energy; Safety and Security; Cultural Resources; Community Facilities and Parklands; and Construction Impacts. The impacts will be evaluated both for the construction period and the long-term period of operation. Measures to mitigate adverse impacts will also be addressed.

FTA Procedures: After the scope of the EIS/EIR evaluation has been determined, FTA and MTA will conduct the analyses and interagency coordination necessary to prepare a Draft EIS/EIR. The Draft EIS/EIR will be made available for public and agency review and comment, and a public hearing will be held. On the basis of the Draft EIS/EIR and comments received, MTA will select a Locally Preferred Alternative. If FTA approves of advancing the Locally Preferred Alternative into Preliminary Engineering (PE), the Final EIS/EIR responding to comments received and incorporating the results of PE, would then be prepared and released.

Issued on: May 15, 2000.
Leslie T. Rogers,
Regional Administrator.

[FR Doc. 00-12638 Filed 5-18-00; 8:45 am]

BILLING CODE 4910-57-P